DEPARTMENT OF LABOR

Employment and Training Administration

[TA-W-52,825]

Lynn Dean Fashions, Inc., Biscoe, North Carolina; Notice of Termination of Investigation

Pursuant to section 221 of the Trade Act of 1974, an investigation was initiated on September 11, 2003 in response to a worker petition which was filed by a company official on behalf of workers at Lynn Dean Fashions, Inc., Biscoe, North Carolina (TA-W-52,825).

The petitioner has requested that the petition be withdrawn. Consequently, the investigation has been terminated.

Signed in Washington, DC, this 15th day of October, 2003.
Richard Church,
Certifying Officer, Division of Trade Adjustment Assistance.

[FR Doc. 03-29114 Filed 11-20-03; 8:45 am]

BILLING CODE 4510-30-P